DEPARTMENT OF COMMERCE

International Trade Administration

[A-580-870]

Certain Oil Country Tubular Goods From the Republic of Korea: Final Results of Antidumping Duty Administrative Review; 2018-2019

AGENCY: Enforcement and Compliance, International Trade Administration, Department of Commerce.

SUMMARY: The Department of Commerce (Commerce) determines that certain oil country tubular goods (OCTG) from the Republic of Korea (Korea) are being sold in the United States at prices below normal value. The period of review (POR) is September 1, 2018, through August 31, 2019.

DATES: Applicable July 30, 2021.

FOR FURTHER INFORMATION CONTACT: Davina Friedmann, Mark Flessner, or Frank Schmitt, AD/CVD Operations, Office VI, Enforcement and Compliance, International Trade Administration, U.S. Department of Commerce, 1401 Constitution Avenue NW, Washington, DC 20230; telephone: (202) 482-0698, (202) 482-6312, or (202) 482-4880, respectively.

SUPPLEMENTARY INFORMATION:

Background

On January 25, 2021, Commerce published the Preliminary Results of this administrative review.¹ We invited interested parties to comment on the Preliminary Results. Between February 25 and March 4, 2021, Commerce received timely filed case briefs and rebuttal briefs from various interested parties.² On April 28, 2021, we extended the deadline for the final results until July 23, 2021.³

¹ See Certain Oil Country Tubular Goods from the Republic of Korea: Preliminary Results of Antidumping Duty Administrative Review; 2018-2019, 86 FR 6868 (January 25, 2021) (Preliminary Results), and accompanying Preliminary Decision Memorandum.

² See Maverick Tube Corporation, Tenaris Bay City, Inc., and IPSCO Tubulars Inc. (collectively, Maverick)'s Letter, “Oil Country Tubular Goods from the Republic of Korea: Case Brief of Maverick Tube Corporation, Tenaris Bay City, Inc., and IPSCO Tubulars Inc.,” dated February 25, 2021; United States Steel Corporation (U.S. Steel)'s Letter, “Oil Country Tubular Goods from the Republic of Korea: Case Brief of United States Steel Corporation,” dated February 26, 2021; Hyundai Steel Company (Hyundai Steel)'s Letter, “Certain Oil Country Tubular Goods from the Republic of Korea—Case Brief,” dated February 25, 2021; SeAH Steel Corporation (SeAH)'s Letter, “Administrative Review of the Antidumping Order on Oil Country Tubular Goods from Korea—Case Brief of SeAH Steel Corporation,” dated February 25, 2021; Husteel Co., Ltd. (Husteel)'s Letter, “Oil Country Tubular Goods from the Republic of Korea, Case No. A-580-870: Husteel's Case Brief,” dated February 25, 2021; AJU Besteel's Letter, “Certain Oil Country Tubular Goods from the Republic of Korea—Letter in Support of Case Briefs,” dated February 25, 2021; ILJIN's Letter, “Certain Oil Country Tubular Goods from the Republic of Korea—Letter in Support of Case Briefs,” dated February 25, 2021; Maverick's Letter, “Oil Country Tubular Goods from the Republic of Korea: Rebuttal Brief of Maverick Tube Corporation, Tenaris Bay City, Inc. and IPSCO Tubular Inc.,” dated March 4, 2021; U.S. Steel's Letter, “Oil Country Tubular Goods from the Republic of Korea: Rebuttal Brief of United States Steel Corporation,” dated March 5, 2021; Hyundai Steel's Letter, “Certain Oil Country Tubular Goods from the Republic of Korea—Rebuttal Brief,” dated March 4, 2021; SeAH's Letter, “Administrative Review of the Antidumping Duty Order on Oil Country Tubular Goods from Korea—Rebuttal Brief of SeAH Steel Corporation,” dated March 5, 2021; and Husteel's Letter, “Oil Country Tubular Goods from Republic of Korea, Case No. A-580-870: Letter in Support of Respondents' Rebuttal Briefs,” dated March 4, 2021.

³ See Memorandum, “Oil Country Tubular Goods from the Republic of Korea: Extension of Time Limit for Final Results of Antidumping Duty Administrative Review, 2018-2019,” dated April 28, 2021.

For a complete description of the events that followed the Preliminary Results of this administrative review, see the Issues and Decision Memorandum.⁴ The Issues and Decision Memorandum is a public document and is on file electronically via Enforcement and Compliance's Antidumping and Countervailing Duty Centralized Electronic Service System (ACCESS). ACCESS is available to registered users at https://access.trade.gov. In addition, a complete version of the Issues and Decision Memorandum can be accessed directly on the internet at http://enforcement.trade.gov/frn/index.html.

⁴ See Memorandum, “Issues and Decision Memorandum for the Final Results of the 2018-2019 Administrative Review of the Antidumping Duty Order on Certain Oil Country Tubular Goods from the Republic of Korea,” dated concurrently with, and hereby adopted by, this notice (Issues and Decision Memorandum).

These final results cover 53 companies.⁵ Based on an analysis of the comments received, we have made changes to the weighted-average dumping margins determined for the respondents. The weighted-average dumping margins are listed in the “Final Results of Review” section, below. Commerce conducted this review in accordance with section 751(a) of the Tariff Act of 1930, as amended (the Act).

⁵ See Initiation of Antidumping and Countervailing Duty Administrative Reviews, 84 FR 61011 (November 12, 2021). The 53 companies consist of two mandatory respondents and 51 companies not individually examined.

Scope of the Order ⁶

⁶ See Certain Oil Country Tubular Goods from India, the Republic of Korea, Taiwan, the Republic of Turkey, and the Socialist Republic of Vietnam: Antidumping Duty Orders; and Certain Oil Country Tubular Goods from the Socialist Republic of Vietnam: Amended Final Determination of Sales at Less Than Fair Value, 79 FR 53691 (September 10, 2014) (Order).

The merchandise covered by the Order is certain OCTG, which are hollow steel products of circular cross-section, including oil well casing and tubing, of iron (other than cast iron) or steel (both carbon and alloy), whether seamless or welded, regardless of end finish (e.g., whether or not plain end, threaded, or threaded and coupled) whether or not conforming to American Petroleum Institute (API) or non-API specifications, whether finished (including limited service OCTG products) or unfinished (including green tubes and limited service OCTG products), whether or not thread protectors are attached. The scope of the Order also covers OCTG coupling stock. For a complete description of the scope of the Order, see the Issues and Decision Memorandum.

Analysis of Comments Received

All issues raised in the case and rebuttal briefs filed by parties in this review are addressed in the Issues and Decision Memorandum. The issues are identified in Appendix I to this notice.

Changes Since the Preliminary Results

Based on our analysis of the comments received, we made certain changes to the margin calculations for SeAH and Hyundai Steel. For a discussion of these changes, see the “Margin Calculations” section of the Issues and Decision Memorandum.

Rate for Non-Examined Companies

The statute and Commerce's regulations do not address the establishment of a rate to be applied to companies not selected for examination when Commerce limits its examination in an administrative review pursuant to section 777A(c)(2) of the Act. Generally, Commerce looks to section 735(c)(5) of the Act, which provides instructions for calculating the all-others rate in a market economy investigation, for guidance when calculating the rate for companies which were not selected for individual review in an administrative review. Under section 735(c)(5)(A) of the Act, the all-others rate is normally “an amount equal to the weighted average of the estimated weighted average dumping margins established for exporters and producers individually investigated, excluding any zero or de minimis margins, and any margins determined entirely {on the basis of facts available}.”

For these final results, we calculated a weighted-average dumping margin that is not zero, de minimis, or determined entirely on the basis of facts available for SeAH. Accordingly, Commerce has assigned to the companies not individually examined (see Appendix II for a full list of these companies) a margin of 0.77 percent, which is SeAH's calculated weighted-average dumping margin for these final results.

Final Results of Review

Commerce determines that the following weighted-average dumping margins exist for the period September 1, 2018, through August 31, 2019:

⁷ See Appendix II for a full list of these companies.

Producer/exporter | Weighted-average dumping margins (percent)
Hyundai Steel Company | 0.00
SeAH Steel Corporation | 0.77
Non-examined companies ⁷ | 0.77

Disclosure

Commerce intends to disclose the calculations performed for these final results of review within five days of the date of publication of this notice in the Federal Register, in accordance with 19 CFR 351.224(b).

Assessment

Pursuant to section 751(a)(2)(C) of the Act and 19 CFR 351.212(b), Commerce shall determine, and U.S. Customs and Border Protection (CBP) shall assess, antidumping duties on all appropriate entries of subject merchandise in accordance with the final results of this review.

Where the respondent reported reliable entered values, we calculated importer- (or customer-) specific ad valorem rates by aggregating the dumping margins calculated for all U.S. sales to each importer (or customer) and dividing this amount by the total entered value of the sales to each importer (or customer).⁸ Where Commerce calculated a weighted-average dumping margin by dividing the total amount of dumping for reviewed sales to that party by the total sales quantity associated with those transactions, Commerce will direct CBP to assess importer- (or customer-) specific assessment rates based on the resulting per-unit rates.⁹ Where an importer- (or customer-) specific ad valorem or per-unit rate is greater than de minimis (i.e., 0.50 percent), Commerce will instruct CBP to collect the appropriate duties at the time of liquidation.¹⁰ Where an importer- (or customer-) specific ad valorem or per-unit rate is zero or de minimis, Commerce will instruct CBP to liquidate appropriate entries without regard to antidumping duties.¹¹

⁸ See 19 CFR 351.212(b)(1).

⁹ Id.

¹⁰ Id.

¹¹ See 19 CFR 351.106(c)(2).

For the companies which were not selected for individual review, we will assign an assessment rate based on the methodology described in the “Rates for Non-Examined Companies” section, above.

Consistent with Commerce's assessment practice, for entries of subject merchandise during the POR produced by SeAH, Hyundai Steel, or the non-examined companies for which the producer did not know that its merchandise was destined for the United States, we will instruct CBP to liquidate unreviewed entries at the all-others rate if there is no rate for the intermediate company(ies) involved in the transaction.¹²

¹² For a full discussion of this practice, see Antidumping and Countervailing Duty Proceedings: Assessment of Antidumping Duties, 68 FR 23954 (May 6, 2003).

Consistent with its recent notice,¹³ Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

¹³ See Notice of Discontinuation Policy to Issue Liquidation Instructions After 15 Days in Applicable Antidumping and Countervailing Duty Administrative Proceedings, 86 FR 3995 (January 15, 2021).

Cash Deposit Requirements

The following cash deposit requirements will be effective for all shipments of subject merchandise entered, or withdrawn from warehouse, for consumption on or after the publication date of the final results of this administrative review, as provided for by section 751(a)(2)(C) of the Act: (1) The cash deposit rates for the companies listed in these final results will be equal to the weighted-average dumping margins established in the final results of this review; (2) for merchandise exported by producers or exporters not covered in this review but covered in a prior segment of this proceeding, the cash deposit rate will continue to be the company-specific rate published for the most recently completed segment in which the company was reviewed; (3) if the exporter is not a firm covered in this review or the original less-than-fair-value (LTFV) investigation, but the producer is, the cash deposit rate will be the rate established for the most recently completed segment of this proceeding for the producer of the subject merchandise; and (4) the cash deposit rate for all other producers or exporters will continue to be 5.24 percent,¹⁴ the all-others rate established in the LTFV investigation. These cash deposit requirements, when imposed, shall remain in effect until further notice.

¹⁴ See Certain Oil Country Tubular Goods from the Republic of Korea: Notice of Court Decision Not in Harmony with Final Determination, 81 FR 59603 (August 30, 2016).

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Notification Regarding Administrative Protective Order

This notice also serves as the only reminder to parties subject to administrative protective order (APO) of their responsibility concerning the disposition of proprietary information disclosed under APO in accordance with 19 CFR 351.305(a)(3), which continues to govern business proprietary information in this segment of the proceeding. Timely written notification of the return or destruction of APO materials or conversion to judicial protective order is hereby requested. Failure to comply with the regulations and the terms of an APO is a sanctionable violation.

Notification to Interested Parties

This administrative review and notice are issued and published in accordance with sections 751(a)(1) and 777(i)(1) of the Act, and 19 CFR 351.213.

Dated: July 23, 2021.
Christian Marsh,
Acting Assistant Secretary for Enforcement and Compliance.

Appendix I—List of Topics Discussed in the Issues and Decision Memorandum

I. Summary

II. Background

III. Scope of the Order

IV. Changes Since the Preliminary Results

V. Rate for Non-Examined Companies

VI. Discussion of the Issues

General Issues

Comment 1-A: Lawfulness of Commerce's Interpretation of the Particular Market Situation (PMS) Provision

Comment 1-B: Evidence of a PMS

Comment 1-C: Quantification of PMS Adjustment

Comment 2: Differential Pricing

Comment 3: Calculation of Constructed Value (CV) Profit and Selling Expenses

Hyundai Steel-Specific Issues

Comment 4: Arm's Length Adjustment for Services from Affiliate

Comment 5: Transportation of OCTG from Affiliate

Comment 6: Cost of Prime Products Sold in the United States

Comment 7: Transfer Price as an Indirect Selling Expense

Comment 8: Correcting Drafting Errors

Comment 9: Hyundai Steel's Entered Value

Comment 10: U.S. Warehousing Expense

Comment 11: Reallocating an Input as a Packing Expense

SeAH-Specific Issues

Comment 12: PMS Adjustment in the Sales-Below-Cost Test

Comment 13: Freight Revenue Cap

Comment 14: Calculation of General and Administrative (G&A) Expenses Incurred by SeAH's U.S. Affiliate

Comment 15: Correction of a Ministerial Error in SeAH's Preliminary Margin Program

Comment 16: SeAH's Kuwait Sales to Calculate Normal Value

Comment 17: CEP Offset

VII. Recommendation

Appendix II—List of Companies Not Individually Examined

1. AJU Besteel Co., Ltd.

2. Blue Sea Precision Tube Co., Ltd.

3. Bo Myung Metal Co., Ltd.

4. BUMA CE Co., Ltd.

5. Busung Steel Co., Ltd.

6. Chang Won Bending Co., Ltd.

7. Daeho P&C Co., Ltd.

8. Daou Precision Ind. Co.

9. Dongyang Steel Pipe Co., Ltd.

10. Dongbu Incheon Steel Co., Ltd.

11. Dongkuk Steel Mill Co., Ltd.

12. EEW Korea Co., Ltd.

13. Global Solutions Co., Ltd.

14. Hansol Metal Co., Ltd.

15. HiSteel Co., Ltd.

16. HPP Co., Ltd.

17. Husteel Co., Ltd.

18. Hyundai Group

19. Hyundai Corporation

20. Hyundai HYSCO

21. Hyundai RB Co., Ltd.

22. ILJIN Steel Corporation

23. Keonwoo Metals Co., Ltd.

24. K Steel Corporation

25. KF UBIS Co., Ltd.

26. Korea Steel Co., Ltd.

27. Kukje Steel Co., Ltd.

28. KPF Co., Ltd.

29. Kumkang Kind Co., Ltd.

30. Kumsoo Connecting Co., Ltd.

31. Master Steel Corporation

32. MCK Co., Ltd.

33. MS Pipe Co., Ltd.

34. Msteel Co., Ltd.

35. Nexen Corporation

36. NEXTEEL Co., Ltd.

37. Pneumatic Plus Korea Co., Ltd.

38. POSCO International Corporation

39. PSG Co., Ltd.

40. Pusan Fitting Corporation

41. SeAH FS Co., Ltd.

42. Sejong Ind. Co., Ltd.

43. Seokyoung Steel & Technology Co., Ltd.

44. SIC Tube Co., Ltd.

45. ST Tubular Inc.

46. Sungkwang Bend Co., Ltd.

47. TGS Pipe Co., Ltd.

48. TJ Glovsteel Co., Ltd.

49. TSP Corporation

50. Union Pipe MFG Co., Ltd.

51. WSG Co., Ltd.

[FR Doc. 2021-16250 Filed 7-29-21; 8:45 am]

BILLING CODE 3510-DS-P